DEPARTMENT OF HOMELAND SECURITY

Coast Guard

46 CFR Part 66

[USCG-1998-3798]

RIN 1625-AA14

Numbering of Undocumented Barges

AGENCY: Coast Guard, DHS.

ACTION: Notice of proposed rulemaking; reopening of comment period.

SUMMARY: The Coast Guard is reopening the comment period on its notice of proposed rulemaking on numbering of undocumented barges, published in the Federal Register on January 11, 2001 (66 FR 2385). Reopening the comment period gives the public more time to submit comments and recommendations on the issues raised in the proposed rule. This rulemaking is necessary to establish a statutorily required numbering system for undocumented barges more than 100 gross tons operating on the navigable waters of the United States.

DATES: Comments and related material must reach the Docket Management Facility on or before November 10, 2004.

ADDRESSES: To make sure that your comments and related material are not entered more than once in the docket, please submit them by only one of the following means:

(1) By mail to the Docket Management Facility (USCG-1998-3798), U.S. Department of Transportation, room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web site for the Docket Management System at http://dms.dot.gov.

You must also mail comments on collection of information to the Office of Information and Regulatory Affairs, Office of Management and Budget, 725 17th Street, NW., Washington, DC 20503, ATTN: Desk Officer, U.S. Coast Guard.

The Docket Management Facility maintains the public docket for the rulemaking. Comments and material received from the public will become part of this docket and will be available for inspection or copying at room PL-401, located on the Plaza level of the Nassif Building, 400 Seventh Street, SW., Washington, DC, between 9 a.m. and 5 p.m., Monday through Friday, except Federal holidays. You may also find this docket on the Internet at http://dms.dot.gov.

FOR FURTHER INFORMATION CONTACT: If you have questions on this rule, call Ms. Pat Williams, Project Manager, National Vessel Documentation Center, Coast Guard, telephone 304-271-2400, e-mail: pwilliams@comdt.uscg.mil. If you have questions on viewing the docket, call Ms. Andrea M. Jenkins, Program Manager, Docket Operations, telephone 202-366-0271.

SUPPLEMENTARY INFORMATION:

Request for Comments

We encourage you to participate in this Coast Guard rulemaking by submitting comments and related material. If you do so, please include your name and address, identify the docket number for this rulemaking (USCG-1998-3798), indicate the specific section of the Notice of Proposed Rulemaking to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope.

Your comments and materials may influence this rulemaking. We will consider all comments received during the comment period.

Regulatory History

On October 18, 1994, the Coast Guard published a notice in the Federal Register (59 FR 52646) requesting comments on issues related to a numbering system for undocumented barges measuring more than 100 gross tons. The primary issues addressed in the notice concerned who should administer a barge numbering system, what type of number should be required, and how much the numbering system would cost. The Coast Guard received twenty-one comments in response to the notice.

On July 6, 1998, the Coast Guard published an Advanced Notice of Proposed Rulemaking (ANPRM) in the Federal Register (63 FR 36384), discussing the proposed regulation, comments received from the October 1994 notice, and a preliminary regulatory assessment.

On January 11, 2001, the Coast Guard published a Notice of Proposed Rulemaking (NPRM) in the Federal Register (66 FR 2385), discussing the proposed regulation, comments received from the ANPRM, and requesting additional comments.

The comments received from the NPRM (see this docket on the Internet at http://dms.dot.gov) will be discussed in the final rule, along with comments received from this notice.

Background and Purpose

Congress passed the Abandoned Barge Act of 1992 (Public Law 102-587, §§ 5301-05) (“the Act”). During passage of the Act, Congress noted that abandoned barges are often used for the illegal disposal of hazardous cargo, waste, and petroleum products. This illegal disposal can lead to actual or potential pollution incidents. To prevent these incidents, the Act added a new chapter 47 to title 46 of the United States Code that prohibits abandoning barges in the navigable waters of the United States. The Act also amended 46 U.S.C. 12301 to require the numbering of undocumented barges measuring more than 100 gross tons operating on the navigable waters of the United States.

This numbering system will provide a means for identifying parties responsible for the now illegal abandonment of barges. More importantly, it will help identify those parties who may be held liable for the removal and proper disposal of any hazardous substances stored or deposited on board abandoned barges, as well as for the removal of the barges from the nation's waterways. This potential for liability would serve as a deterrent to barge abandonment.

Taking into consideration the time since the publication of the NPRM, the Coast Guard is soliciting more public information before a final rule is published.

Public Meeting

The Coast Guard plans no public meeting. You may request a public meeting by submitting a comment requesting one to the address under ADDRESSES. The request should include the reasons why a meeting would be beneficial. If the Coast Guard determines that a meeting should be held, we will announce the time and place in a later notice in the Federal Register.

Dated: August 6, 2004.
Joseph J. Angelo,
Director of Standards, Marine Safety, Security & Environmental Protection.

[FR Doc. 04-18471 Filed 8-11-04; 8:45 am]

BILLING CODE 4910-15-P